DEPARTMENT OF ENERGY

Federal Energy Regulatory Commission

[Docket No. RP16-300-000]

Empire Pipeline, Inc.; Notice of Initiation of Section 5 Proceeding

On January 21, 2016, the Commission issued an order in Docket No. RP16-300-000, pursuant to section 5 of the Natural Gas Act, 15 U.S.C. 717d (2012), instituting an investigation into the justness and reasonableness of Empire Pipeline, Inc.'s (Empire) currently effective tariff rates. The Commission's order directs Empire to file a full cost and revenue study within 75 days of the issuance of the order. Empire Pipeline, Inc., 154 FERC ¶61,029 (2016).

Dated: January 21, 2016.
Nathaniel J. Davis, Sr.,
Deputy Secretary.

[FR Doc. 2016-01796 Filed 2-1-16; 8:45 am]

BILLING CODE 6717-01-P